DEPARTMENT OF COMMERCE

Bureau of Industry and Security

Materials Processing Equipment Technical Advisory Committee; Notice of Open Meeting

The Materials Processing Equipment Technical Advisory Committee (MPETAC) will meet on July 6, 2006 at 9 a.m. in Room 3884 of the Herbert C. Hoover Building, 14th Street between Pennsylvania and Constitution Avenues, NW., Washington, DC. The Committee advises the Office of the Assistant Secretary for Export Administration with respect to technical questions that affect the level of export controls aplicable to materials processing equipment and related technology.

Agenda

1. Opening Remarks and Introductions.

2. Presentation of Papers and Comments by the Public.

3. Report on Wassenaar Experts Meeting.

4. MPETAC Future Activities.

5. Report on Proposed Changes to the Export Administration Regulation.

6. Other Business.

The meeting will be open to the public and a limited number of seats will be available. Reservations are not accepted. To the extent that time permits, members of the public may present oral statements to the Committee. Written statements may be submitted at any time before or after the meeting. However, to facilitate distribution of public presentation materials to Committee members, the Committee suggests that presenters forward the public presentation materials two weeks prior to Yvette Springer at Yspringer@bis.doc.gov.

For more information, please contact Ms. Sprigner at 202-482-4814.

Dated: June 13, 2006.
Yvette Springer,
Committee Liaison Officer.

[FR Doc. 06-5525 Filed 6-16-06; 8:45 am]

BILLING CODE 3510-JT-M